DEPARTMENT OF DEFENSE

Defense Acquisition Regulations System

48 CFR Parts 215, 225, and 253

Defense Federal Acquisition Regulation Supplement; Technical Amendments

AGENCY: Defense Acquisition Regulations System, Department of Defense (DoD).

ACTION: Final rule.

SUMMARY: DoD is making technical amendments to the Defense Federal Acquisition Regulation Supplement (DFARS) to update references within the DFARS text.

EFFECTIVE DATE: March 27, 2007.

FOR FURTHER INFORMATION CONTACT: Ms. Michele Peterson, Defense Acquisition Regulations System, OUSD(AT&L)DPAP(DARS), IMD 3C132, 3062 Defense Pentagon, Washington, DC 20301-3062. Telephone (703) 602-0311; facsimile (703) 602-0350.

SUPPLEMENTARY INFORMATION: This final rule amends DFARS text as follows:

• Sections 215.404-71-3 and 215.404-71-4. Removes obsolete cross-references, and adds a reference to the TreasuryDirect Web site for interest rate information.

• Section 225.7014. Updates a cross-reference.

• Section 225.7401. Updates the section to provide a more specific description of the Procedures, Guidance, and Information (PGI) text referenced in paragraph (a).

• Part 253. Adds a reference to the DoD Forms Management Program Web site.

List of Subjects in 48 CFR Parts 215, 225, and 253

Government procurement.

Michele P. Peterson,
Editor, Defense Acquisition Regulations System.

Therefore, 48 CFR parts 215, 225, and 253 are amended as follows:

1. The authority citation for 48 CFR parts 215, 225, and 253 continues to read as follows:

Authority: 41 U.S.C. 421 and 48 CFR Chapter 1.

PART 215—CONTRACTING BY NEGOTIATION

215.404-71-3 [Amended]

2. Section 215.404-71-3 is amended in paragraph (b)(7), in the first sentence, by removing “(see 230.7101-1(a))” and adding in its place “(see http://www.treasurydirect.gov/govt/rates/tcir/tcir_opdirsemi.htm)”.

215.404-71-4 [Amended]

3. Section 215.404-71-4 is amended in paragraph (e)(2) by removing “(see 230.7001)”.

PART 225—FOREIGN ACQUISITION

225.7014 [Amended]

4. Section 225.7014 is amended by removing “236.274(a)” and adding in its place “236.273(a)”.

5. Section 225.7401 is amended by revising the section heading and paragraph (a) to read as follows:

225.7401 Contracts requiring performance or delivery in a foreign country.

(a) If an acquisition requires performance of work in a foreign country by contractor personnel other than host country personnel, or delivery of items to a Unified Combatant Command designated operational area, follow the procedures at PGI 225.7401(a).

* * * * *

PART 253—FORMS

6. Subpart 253.3 is added to read as follows:

Subpart 253.3—Illustration of Forms

253.303 Agency forms.

DoD forms are available at http://www.dtic.mil/whs/directives/infomgt/forms/formsprogram.htm.

[FR Doc. E7-5476 Filed 3-26-07; 8:45 am]

BILLING CODE 5001-08-P